DEPARTMENT OF JUSTICE

Antitrust Division

Notice Pursuant to the National Cooperative Research and Production Act of 1993—The Open Group, L.L.C.

Notice is hereby given that, on November 12, 2019, pursuant to Section 6(a) of the National Cooperative Research and Production Act of 1993, 15 U.S.C. 4301 et seq. (“the Act”), The Open Group, L.L.C. (“TOG”) has filed written notifications simultaneously with the Attorney General and the Federal Trade Commission disclosing changes in its membership. The notifications were filed for the purpose of extending the Act's provisions limiting the recovery of antitrust plaintiffs to actual damages under specified circumstances. Specifically, ALVRO S.à.r.l., Luxembourg City, LUXEMBOURG; Avanade, Inc., Seattle, WA; Beijing Pitaya Software Engineering Technology Center, Beijing, PEOPLE'S REPUBLIC OF CHINA; BHP Billiton Deepwater, Inc., Houston, TX; Carrtelcom Nigeria Company Limited, Iju-Shaga, NIGERIA; CGI Nederland B.V., Rotterdam, THE NETHERLANDS; Common Data Access Limited, London, UNITED KINGDOM; COTSWORKS, LLC, Highland Heights, OH; Desmond Fitzgerald & Associates T/A Intrepid Geophysics, Brighton, AUSTRALIA; Doccmott Enterprise Solutions (Pty) Ltd, Johannesburg, SOUTH AFRICA; Earth Science Analytics AS, Stavanger, NORWAY; EnergyIQ LLC, Littleton, CO; Enterprise Architecture Training LLC, Cuming, GA; Enthought, Inc., Austin, TX; Environmental Systems Research Institute, Redlands, CA; EXB Solutions, Minneapolis, MN; Foster Findlay Associates Ltd, Newcastle Upon Tyne, UNITED KINGDOM; Georgia Tech Research Institute, Atlanta, GA; GrammaTech, Inc., Ithaca, NY; Great River Technology, Inc., Albuquerque, NM; Hint Americas Inc., Houston, TX; Interface Concept Inc., Naperville, IL; KAPPA Engineering, Paris, FRANCE; Maana, Inc., Menlo Park, CA; MAILLANCE SAS, Paris, FRANCE; Micro Focus (US) Inc., Downington, PA; Noble Energy, Inc., Houston, TX; Oil and Gas Authority, London, UNITED KINGDOM; Petrabytes Corporation, Bellaire, TX; PETRONAS Carigali Sdn. Bhd, Kuala Lumpur, MALAYSIA; RagnaRock Geo, Trondheim, NORWAY; Rococo Co. Ltd, Chuo-ku, JAPAN; RTD Embedded Technologies, Inc., State College, PA; Ruths Analytics and Innovation, Inc. (d/b/a “Petro.ai”), Houston, TX; SAS Management, Inc., Makati City, PHILIPPINES; SMART Embedded Computing, Tempe, AZ; Stonebridge Consulting, LLC, Tulsa, OK; Sustainable Evolution, Inc., Seattle, WA; Teradata Corporation, London, UNITED KINGDOM; US Army Project Manager Electronic Warfare and Cyber, APG, MD; vCISO Services, LLC, Franklin, TN; and wolfSSL, Inc., Edmonds, WA, have been added as parties to this venture.

Also, 4IT GROUP Sp. zo.o., Wroclaw, POLAND; acQuire Technology Solutions Pty, Ltd, Applecross, AUSTRALIA; Banco de México, Mexico City, MEXICO; CS Inc., East Hartford, CT; Curtiss-Wright Controls Defense Solutions, Santa Clarita, CA; Devon Energy Corporation, Oklahoma City, OK; Edifit Limited, Coventry, UNITED KINGDOM; Garmin International, Olathe, KS; Geco, Inc., Mesa, AZ; Macro Services Solutions, Bogota, COLOMBIA; PDM Technology Services Pty. Ltd., Midrand, SOUTH AFRICA; QR Systems Inc., Woodbridge, CANADA; Quinsigamond Community College, Worcester, MA; Rio Tinto, London, UNITED KINGDOM; Service-Flow Corp., Helsinki, FINLAND; Solventa BV, Nieuwegein, THE NETHERLANDS; and University of Southern California USC Energy Institute, Los Angeles, CA, have withdrawn as parties to this venture.

In addition, U.S. Army RDECOM CERDEC Intelligence and Information Warfare Directorate has changed its name to AFC CCDC C5ISR Center, Aberdeen Proving Ground, MD; CXOWARE, Inc. to RiskLens, Inc., Spokane, WA; and Integrata Cegos GmbH to Integrata AG, Stuttgart, GERMANY.

No other changes have been made in either the membership or planned activity of the group research project. Membership in this group research project remains open, and TOG intends to file additional written notifications disclosing all changes in membership.

On April 21, 1997, TOG filed its original notification pursuant to Section 6(a) of the Act. The Department of Justice published a notice in the Federal Register pursuant to Section 6(b) of the Act on June 13, 1997 (62 FR 32371).

The last notification was filed with the Department on August 6, 2019. A notice was published in the Federal Register pursuant to Section 6(b) of the Act on August 16, 2019 (84 FR 42011).

Suzanne Morris,
Chief, Premerger and Division Statistics Unit Antitrust Division.

[FR Doc. 2019-26246 Filed 12-4-19; 8:45 am]

BILLING CODE 4410-11-P